NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Tuesday, January 2, 2018 at 4:30-5:30 p.m. EST.

PLACE: This meeting will be held by teleconference at the National Science Foundation, 2415 Eisenhower Avenue, Alexandria, VA 22314. An audio link will be available for the public. Members of the public must contact the Board Office to request the public audio link by sending an email to nationalsciencebrd@nsf.gov at least 24 hours prior to the teleconference.

STATUS: Open.

MATTERS TO BE CONSIDERED: Discussion of Policy Companion Statement to Science and Engineering Indicators 2018.

CONTACT PERSON FOR MORE INFORMATION: Point of contact for this meeting is: Mateo Munoz (mmunoz@nsf.gov).

Meeting information and updates (time, place, subject matter or status of meeting) may be found at http://www.nsf.gov/nsb/meetings/notices/.jsp#sunshine. Please refer to the National Science Board website www.nsf.gov/nsb for additional information.

Ann Bushmiller,
Senior Counsel to the National Science Board.

[FR Doc. 2017-28115 Filed 12-22-17; 5:10 pm]

BILLING CODE 7555-01-P